DEPARTMENT OF ENERGY

Federal Energy Regulatory Commission

Combined Notice of Filings #1

October 28, 2009.

Take notice that the Commission received the following electric rate filings:

Docket Numbers: ER97-324-015.

Applicants: Detroit Edison Company.

Description: Quarterly Report of The Detroit Edison Company for the Third Quarter of 2009 Pursuant to 18 CFR 35.42(d).

Filed Date: 10/22/2009.

Accession Number: 20091022-5120.

Comment Date: 5 p.m. Eastern Time on Thursday, November 12, 2009.

Docket Numbers: ER97-870-016.

Applicants: Sunoco Power Marketing, LLC.

Description: Sunoco Power Marketing, LLC submits Order 697 compliance filing and request for FERC acknowledge that Sunoco is a Category I Seller in all six regions of the United States.

Filed Date: 10/23/2009.

Accession Number: 20091026-0285.

Comment Date: 5 p.m. Eastern Time on Friday, November 13, 2009.

Docket Numbers: ER97-2801-029.

Applicants: PacifiCorp.

Description: PacifiCorp submits an amendment to its market-based rate tariff to permit the sale of certain ancillary services.

Filed Date: 10/26/2009.

Accession Number: 20091027-0035.

Comment Date: 5 p.m. Eastern Time on Monday, November 16, 2009.

Docket Numbers: ER00-2603-008; ER05-570-005; ER06-1291-004; ER06-226-002; ER07-1040-005; ER07-565-003; ER09-1414-002; ER98-3774-008; ER07-566-003; ER08-200-004.

Applicants: Hopewell Cogeneration Ltd Partnership, FirstLight Power Resources Management, LL, MT. Tom Generating Company LLC, Waterbury Generation, LLC, Choctaw Gas Generation, LLC, Choctaw Generation Limited Partnership, Hot Spring Power Company, LLC, Syracuse Energy Corporation, GDF SUEZ Energy Marketing NA, Inc., FirstLight Hydro Generating Company, LLC.

Description: Notice of Change in Status of the GDF SUEZ Sellers.

Filed Date: 10/26/2009.

Accession Number: 20091026-5094.

Comment Date: 5 p.m. Eastern Time on Monday, November 16, 2009.

Docket Numbers: ER02-556-011; ER06-1280-004.

Applicants: Hess Corporation, Select Energy New York, Inc.

Description: Hess Corporation, et al. Notice of Change in Status.

Filed Date: 10/28/2009.

Accession Number: 20091028-5005.

Comment Date: 5 p.m. Eastern Time on Wednesday, November 18, 2009.

Docket Numbers: ER04-268-016; ER07-157-009; ER99-845-018.

Applicants: Puget Sound Energy, Inc., Duquesne Power, LLC, Macquarie Cook Power, Inc.

Description: Notice of Change in Status Sites for New Generation Capacity Development.

Filed Date: 10/27/2009.

Accession Number: 20091027-5080.

Comment Date: 5 p.m. Eastern Time on Tuesday, November 17, 2009.

Docket Numbers: ER04-879-001.

Applicants: Sunoco Power Generation, LLC.

Description: Sunoco Power Generation, LLC submits Order No 697 compliance filing and request for Category I Status.

Filed Date: 10/23/2009.

Accession Number: 20091027-0005.

Comment Date: 5 p.m. Eastern Time on Friday, November 13, 2009.

Docket Numbers: ER06-1185-003.

Applicants: Pace Global Asset Management, LLC.

Description: Pace Global Asset Management, LLC submits a revised market-based rate tariff and updated market power analysis, and an application for status as Category 1 Seller.

Filed Date: 10/26/2009.

Accession Number: 20091027-0037.

Comment Date: 5 p.m. Eastern Time on Monday, November 16, 2009.

Docket Numbers: ER06-455-002.

Applicants: Duquesne Power, LLC.

Description: Duquesne Power, LLC submits First Revised Sheet 1 et al. to Rate Schedule FERC No 1.

Filed Date: 10/26/2009.

Accession Number: 20091027-0006.

Comment Date: 5 p.m. Eastern Time on Monday, November 16, 2009.

Docket Numbers: ER08-129-006.

Applicants: Southern Company Services, Inc.

Description: Alabama Power Company et al. submits compliance filing to the FERC in accordance with the Commission's Order on Clarification and Compliance Filing issued on 9/24/09.

Filed Date: 10/26/2009.

Accession Number: 20091028-0009.

Comment Date: 5 p.m. Eastern Time on Monday, November 16, 2009.

Docket Numbers: ER09-1379-002.

Applicants: Ameren Services Company.

Description: Ameren Services Company submits its refund report for the Wholesale Distribution Service Agreement between Union Electric Company and the City of Jackson Missouri.

Filed Date: 10/23/2009.

Accession Number: 20091026-0286.

Comment Date: 5 p.m. Eastern Time on Friday, November 13, 2009.

Docket Numbers: ER09-1746-001.

Applicants: ISO New England Inc. & New England Power Pool.

Description: ISO New England Inc requests that FERC accept the errata and approve the changes for the FCM rules.

Filed Date: 10/26/2009.

Accession Number: 20091027-0038.

Comment Date: 5 p.m. Eastern Time on Monday, November 16, 2009.

Docket Numbers: ER09-502-002; ER09-666-003; ER09-667-003; ER09-668-003; ER09-669-003; ER09-670-003; ER09-671-003.

Applicants: EDF Development, Inc.; EDFD-Handsome Lake; EDFD-Perryman; EDFD-Keystone; EDFD-Conemaugh; EDFD-C.P. Crane; EDFD-West Valley.

Description: EDF Development, Inc. submits non-material change in status pursuant to Section 35.42 of the Commission's Regulations etc.

Filed Date: 10/26/2009.

Accession Number: 20091027-0036.

Comment Date: 5 p.m. Eastern Time on Monday, November 16, 2009.

Docket Numbers: ER10-88-001.

Applicants: E.ON U.S., LLC.

Description: E.ON U.S., LLC submits an unexecuted interconnection agreement.

Filed Date: 10/23/2009.

Accession Number: 20091026-0287.

Comment Date: 5 p.m. Eastern Time on Friday, November 13, 2009.

Docket Numbers: ER10-94-000.

Applicants: Sierra Pacific Power Company.

Description: Sierra Pacific Power Co. submits revisions to Exhibit F of the General Transfer Agreement with Bonneville Power Administration.

Filed Date: 10/23/2009.

Accession Number: 20091023-0029.

Comment Date: 5 p.m. Eastern Time on Friday, November 13, 2009.

Docket Numbers: ER10-95-000.

Applicants: New York Independent System Operator, Inc.

Description: New York Independent System Operator, Inc submits Fourth Revised Sheet 231 et al. to its FERC Electric Tariff, Original Volume 1, Schedule 1 to be effective 1/1/10.

Filed Date: 10/23/2009.

Accession Number: 20091026-0271.

Comment Date: 5 p.m. Eastern Time on Friday, November 13, 2009.

Docket Numbers: ER10-96-000.

Applicants: American Electric Power Company, Inc.

Description: American Electric Power submits third revisions to the Interconnection and Local Delivery Service Agreement No. 1428 with the Village of Shiloh and AEP.

Filed Date: 10/23/2009.

Accession Number: 20091026-0277.

Comment Date: 5 p.m. Eastern Time on Friday, November 13, 2009.

Docket Numbers: ER10-97-000.

Applicants: ISO New England Inc. & New England Power Pool.

Description: ISO New England Inc. et al. submit market rule revision relating to the Reserve Constraint Penalty Factor for Thirty Minute Operating Reserve.

Filed Date: 10/23/2009.

Accession Number: 20091026-0272.

Comment Date: 5 p.m. Eastern Time on Friday, November 13, 2009.

Docket Numbers: ER10-99-000.

Applicants: Midwest Independent System Transmission Operation, Inc., American Transmission Company, LLC.

Description: Midwest Independent Transmission System Operator, Inc. et al. submit clarifying revisions to Attachment O-ATC of the Midwest ISO Tariff.

Filed Date: 10/23/2009.

Accession Number: 20091026-0273.

Comment Date: 5 p.m. Eastern Time on Friday, November 13, 2009.

Docket Numbers: ER10-100-000.

Applicants: Westar Energy, Inc.

Description: Westar Energy Inc. submits Balancing Area Services Agreement between Westar and the City of West Plains.

Filed Date: 10/26/2009.

Accession Number: 20091026-0274.

Comment Date: 5 p.m. Eastern Time on Monday, November 16, 2009.

Docket Numbers: ER10-101-000.

Applicants: Southern California Edison Company.

Description: Southern California Edison Company submits revised rate sheets for the Interconnection Facilities Agreement between SCE and Sierra Power Corporation.

Filed Date: 10/26/2009.

Accession Number: 20091026-0275.

Comment Date: 5 p.m. Eastern Time on Monday, November 16, 2009.

Docket Numbers: ER10-102-000.

Applicants: Southern California Edison Company.

Description: Southern California Edison Company submits First Revised Sheet 22 et al. to FERC Electric Tariff, First Revised Volume 5 Service Agreement No 200 to be effective 12/26/09.

Filed Date: 10/26/2009.

Accession Number: 20091026-0270.

Comment Date: 5 p.m. Eastern Time on Monday, November 16, 2009.

Docket Numbers: ER10-103-000.

Applicants: Southern California Edison Company.

Description: Southern California Edison Company submits Large Generator Interconnection Agreement with Western Wind Energy Company.

Filed Date: 10/26/2009.

Accession Number: 20091026-0276.

Comment Date: 5 p.m. Eastern Time on Monday, November 16, 2009.

Docket Numbers: ER10-106-000.

Applicants: Mississippi Power Company.

Description: Mississippi Power Co submits the Transmission Facilities Agreement with Gulf States Utilities Co.

Filed Date: 10/26/2009.

Accession Number: 20091027-0013.

Comment Date: 5 p.m. Eastern Time on Monday, November 16, 2009.

Docket Numbers: ER10-107-000.

Applicants: Upper Peninsula Power Company.

Description: Upper Peninsula Power Company submits revised cover sheets cancelling their Service Agreement No. 10U for Ancillary Services and Wholesale Distribution Service with Ontonagon County Rural Electrification Association.

Filed Date: 10/26/2009.

Accession Number: 20091027-0007.

Comment Date: 5 p.m. Eastern Time on Monday, November 16, 2009.

Docket Numbers: ER10-108-000.

Applicants: ISO New England, Inc.

Description: ISO New England submits tariff revisions to create centralized definitions section.

Filed Date: 10/26/2009.

Accession Number: 20091027-0040.

Comment Date: 5 p.m. Eastern Time on Monday, November 16, 2009.

Docket Numbers: ER10-109-000.

Applicants: NSTAR Electric Company.

Description: NSTAR Electric Company submits errata to the Transfer Agreement with H.Q. Energy Services, Inc.

Filed Date: 10/26/2009.

Accession Number: 20091028-0003.

Comment Date: 5 p.m. Eastern Time on Monday, November 16, 2009.

Docket Numbers: ER10-110-000.

Applicants: ISO New England, Inc.

Description: ISO New England, Inc. submits 3rd Revised Sheet 8560 et al. to its FERC Electric Tariff No 3, Section IV. A Schedule 5—Collection of NESCOE Budget to be effective 1/1/10.

Filed Date: 10/27/2009.

Accession Number: 20091028-0004.

Comment Date: 5 p.m. Eastern Time on Tuesday, November 17, 2009.

Docket Numbers: ER10-111-000.

Applicants: Bangor Hydro-Electric Company.

Description: Bangor Hydro-Electric Company submits Settlement Agreement with PPL Maine, LLC et al.

Filed Date: 10/26/2009.

Accession Number: 20091028-0005.

Comment Date: 5 p.m. Eastern Time on Monday, November 16, 2009.

Docket Numbers: ER10-112-000.

Applicants: ISO New England, Inc.

Description: ISO New England, Inc. submits its capital budget for calendar year 2010 and supporting material.

Filed Date: 10/27/2009.

Accession Number: 20091028-0006.

Comment Date: 5 p.m. Eastern Time on Tuesday, November 17, 2009.

Docket Numbers: ER10-113-000.

Applicants: Southern California Edison Company.

Description: Southern California Edison Company submits Eighth Revised Sheet 54 et al. to Rate Schedule FERC 424 to be effective 1/1/10.

Filed Date: 10/27/2009.

Accession Number: 20091028-0007.

Comment Date: 5 p.m. Eastern Time on Tuesday, November 17, 2009.

Docket Numbers: ER10-114-000.

Applicants: Florida Power & Light Company.

Description: Florida Power & Light Company submits Original Service Agreement 266 to FERC Electric Tariff, 2 Rev. Volume 6 to be effective 1/1/10.

Filed Date: 10/27/2009.

Accession Number: 20091028-0008.

Comment Date: 5 p.m. Eastern Time on Tuesday, November 17, 2009.

Docket Numbers: ER10-116-000.

Applicants: Trans Bay Cable LLC.

Description: Trans Bay Cable submits implementing regulations, supporting materials to establish Trans Bay Cable's revenue requirement in connection with the development, financing, construction, operation etc.

Filed Date: 10/23/2009.

Accession Number: 20091028-0015.

Comment Date: 5 p.m. Eastern Time on Friday, November 13, 2009.

Take notice that the Commission received the following PURPA 210(m)(3) filings:

Docket Numbers: QM10-2-000.

Applicants: The Detroit Edison Company.

Description: Application for Authorization to Terminate the Obligation of The Detroit Edison Company to Purchase Power from Qualified Facilities Over Twenty Megawatts on a Service Territory-Wide Basis.

Filed Date: 10/26/2009.

Accession Number: 20091026-5080.

Comment Date: 5 p.m. Eastern Time on Monday, November 23, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-26615 Filed 11-4-09; 8:45 am]

BILLING CODE 6717-01-P